DEPARTMENT OF JUSTICE

Antitrust Division

Notice Pursuant to the National Cooperative Research and Production Act of 1993—Door & Access Systems Manufacturers Association, International

Notice is hereby given that, on September 20, 2004, pursuant to section 6(a) of the National Cooperative Research and Production Act of 1993, 15 U.S.C. 4301 et seq. (“the Act”), Door & Access Systems Manufacturers Association, International (“DASMA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Door & Access Systems Manufacturers Association, International, Cleveland, OH. The nature and scope of DASMA's standards development activities are: to date, more than fourteen standards for garage doors, rolling doors, fire doors, grilles, counter shutters, sheet doors, high performance doors, garage door and gate operators, and remote controls for garage door and gate operators, many prepared and updated in coordination with the American National Standards Institute.

Dorothy B. Fountain,
Deputy Director of Operations, Antitrust Division.

[FR Doc. 05-1978 Filed 2-1-05; 8:45 am]

BILLING CODE 4410-11-M